DEPARTMENT OF HEALTH AND HUMAN SERVICES

Agency for Toxic Substances and Disease Registry

[ATSDR-232]

Intent To Develop Two Interaction Profiles

AGENCY: Agency for Toxic Substances and Disease Registry (ATSDR), Department of Health and Human Services.

ACTION: Notice of intent.

SUMMARY: This notice announces the intent of ATSDR to develop two interaction profiles.

DATES: The development of the interaction profiles will start on or about July 15, 2007.

ADDRESSES: Previously completed interaction profiles are available on the ATSDR Web site, http://www.atsdr.cdc.gov.

FOR FURTHER INFORMATION, CONTACT: Dr. Hana Pohl, Division of Toxicology and Environmental Medicine, Agency for Toxic Substances and Disease Registry, Mailstop F-32, 1600 Clifton Road, Atlanta, Georgia 30333, telephone (888) 422-8737

SUPPLEMENTARY INFORMATION: Interaction profiles are developed by ATSDR for hazardous substances at National Priority List (NPL) sites. Sections 104(i)(3) and (5) of the Comprehensive Environmental Response, Compensation, and Liability Act of 1980, as amended by the Superfund Amendments and Reauthorization Act of 1986 [42 U.S.C. Sections 9604(i)(3) and (5)], mandate that ATSDR shall assess whether adequate information on health effects is available for the priority hazardous substances. Where such information is not available or under development, ATSDR shall, in cooperation with the National Toxicology Program, initiate a program of research to determine these health effects. The Act further directs that, where feasible, ATSDR shall develop methods to determine the health effects of substances in combination with other substances with which they are commonly found.

To carry out these legislative mandates, ATSDR has developed a program to evaluate the health effects of chemical mixtures. As part of this program, ATSDR developed a guidance manual that outlines the latest methods for assessing the health effects of chemical mixtures. In addition, ATSDR is developing a series of documents, called interaction profiles, for certain chemical mixtures of special concern to ATSDR. The purpose of an interaction profile is to evaluate data on the toxicology of the whole mixture (if available) and on the joint toxic action of the chemicals in the mixture in order to recommend approaches for the exposure-based assessment of the potential hazard to public health.

The entire interaction profile development process is as follows:

• ATSDR selects substances/chemicals for development of interaction profiles through inter/intra agency communications dialogue and literature reviews.

• After the selection, a letter is sent to individuals and agencies on ATSDR's mailing list providing notice of ATSDR's intent to create an interaction profile.

• A notice is posted in the Federal Register to inform the public of ATSDR's intent to develop a particular interaction profile.

• The draft interaction profile undergoes both internal and external peer review.

• A Federal Register notice announces the release of the official draft for public comment.

• ATSDR posts a link to the draft interaction profile on its Web site, giving the public an opportunity to provide comments.

• ATSDR reviews all public comments and revises the draft, as appropriate, before issuing the final version.

The following documents will be developed starting on or about July 15, 2007.

Document 1

Interaction profile for chlorinated dibenzo-p-dioxins, polybrominated diphenyl ethers, and phthalates.

Document 2

Interaction profile for pyrethroid pesticides, organophosphate pesticides, and polychlorinated biphenyls.

The notice of intent is open for comments during the June 15-July 15 period. Send all comments to Dr. Hana Pohl, ATSDR, Division of Toxicology and Environmental Medicine, Mailstop F-32, 1600 Clifton Road, Atlanta, GA 30333.

Dated: June 25, 2007.
Kenneth Rose,
Acting Director, Office of Policy, Planning, and Evaluation, National Center for Environmental Health/Agency for Toxic Substances and Disease Registry.

[FR Doc. E7-12833 Filed 7-2-07; 8:45 am]

BILLING CODE 4163-70-P